LIBRARY OF CONGRESS

Copyright Royalty Board

[Docket No. 17-CRB-0017-CD (2016)]

Distribution of 2016 Cable Royalty Funds

AGENCY: Copyright Royalty Board, Library of Congress.

ACTION: Notice requesting comments.

SUMMARY: The Copyright Royalty Judges solicit comments on a motion for partial distribution of 2016 cable royalty funds.

DATES: Comments are due on or before July 5, 2018.

ADDRESSES: Interested claimants must submit timely comments, identified by docket number 17-CRB-0017-CD (2016), by only one of the following means.

CRB's online electronic filing application: Submit comments online in eCRB at https://app.crb.gov/.

U.S. mail or Overnight service (only USPS Express Mail is acceptable): Copyright Royalty Board, P.O. Box 70977, Washington, DC 20024-0977; or

Commercial courier: Address package to: Copyright Royalty Board, Library of Congress, James Madison Memorial Building, LM-403, 101 Independence Avenue SE, Washington, DC 20559-6000. Deliver to: Congressional Courier Acceptance Site, 2nd Street NE and D Street NE, Washington, DC; or

Hand delivery: Library of Congress, James Madison Memorial Building, LM-401, 101 Independence Avenue SE, Washington, DC 20559-6000.

Instructions: Unless submitting online, commenters must submit an original, two paper copies, and an electronic version on a CD. All submissions must include a reference to the CRB and this docket number. All submissions will be posted without change to eCRB at https://app.crb.gov/ including any personal information provided.

Docket: For access to the docket to read submitted background documents or comments, go to eCRB, the Copyright Royalty Board's online electronic filing and case management system, at https://app.crb.gov/ and search for docket number 17-CRB-0017-CD (2016).

FOR FURTHER INFORMATION CONTACT: Anita Blaine, Program Specialist, by telephone at (202) 707-7658 or email at crb@loc.gov.

SUPPLEMENTARY INFORMATION: Each year cable systems must submit royalty payments to the Register of Copyrights as required by the statutory license detailed in section 111 of the Copyright Act for the retransmission to cable subscribers of over-the-air television and radio broadcast signals. See 17 U.S.C. 111(d). The Copyright Royalty Judges (Judges) oversee distribution of royalties to copyright owners whose works were included in a qualifying transmission and who file a timely claim for royalties. Allocation of the royalties collected occurs in one of two ways.

In the first instance, the Judges may authorize distribution in accordance with a negotiated settlement among all claiming parties. 17 U.S.C. 111(d)(4)(A). If all claimants do not reach agreement with respect to the royalties, the Judges must conduct a proceeding to determine the distribution of any royalties that remain in controversy. 17 U.S.C. 111(d)(4)(B). Alternatively, the Judges may, on motion of claimants and on notice to all interested parties, authorize a partial distribution of royalties, reserving on deposit sufficient funds to resolve identified disputes. 17 U.S.C. 111(d)(4)(C), 801(b)(3)(C).

On May 18, 2018, representatives of the categorical groups of royalty claimants (Claimants) ¹ filed with the Judges a motion pursuant to section 801(b)(3)(C) of the Copyright Act requesting a partial distribution amounting to 50% of the 2016 cable royalty funds on deposit. 17 U.S.C. 801(b)(3)(C). That statutory section requires that, before ruling on the motion, the Judges publish a notice in the Federal Register seeking responses to the motion for partial distribution to ascertain whether any claimant entitled to receive the subject royalties has a reasonable objection to the requested distribution.

¹ The Claimants are Program Suppliers; Joint Sports Claimants; Public Television Claimants; National Association of Broadcasters; American Society of Composers, Authors and Publishers; Broadcast Music, Inc.; SESAC, Inc.; Canadian Claimants Group; Devotional Claimants; and National Public Radio. The Claimants who are the moving parties in this requested partial distribution represent traditionally recognized claimant categories. The Judges have not and do not by this notice determine the universe of claimant categories for 2016 cable retransmission royalties.

Accordingly, this Notice seeks comments from interested claimants on whether any reasonable objection exists that would preclude the distribution of 50% of the 2016 cable royalty funds to the Claimants. Parties objecting to the partial distribution must advise the Judges of the existence and extent of all objections by the end of the comment period. The Judges will not consider any objections with respect to the partial distribution that come to their attention after the close of the comment period.

Members of the public may read the Motion of the Allocation Phase Claimants for Partial Distribution by accessing the Copyright Royalty Board's electronic filing and case management system at https://app.crb.gov/ and searching for docket number 17-CRB-0017-CD (2016).

Dated: May 30, 2018.
Suzanne M. Barnett,
Chief U.S. Copyright Royalty Judge.

[FR Doc. 2018-11938 Filed 6-1-18; 8:45 am]

BILLING CODE 1410-72-P